DEPARTMENT OF TRANSPORTATION

ITS Joint Program Office; IntelliDrive℠ Deployment Scenarios Workshop; Notice of Workshop

AGENCY: Research and Innovative Technology Administration, Department of Transportation.

ACTION: Notice.

This notice announces a two-day IntelliDrive Deployment Scenarios Workshop to present and discuss the four draft IntelliDrive deployment scenarios that have been recently developed in response to key stakeholder input. The purpose of the workshop is to provide input to the U.S. DOT as it refines IntelliDrive research plans about potential future paths for IntelliDrive deployment. Discussions will be framed around four scenarios developed through stakeholder inputs. The workshop will engage participants to identify advantages and disadvantages of each of the draft scenarios and critical policy and institutional research needs. The Tuesday session will provide an overview of the four draft scenarios. The Wednesday session will consist of break-out groups to explore each of the four scenarios in detail as well as a concluding session that summarizes the findings from the workshop. The workshop will be held on June 22-23, 2010, at the Washington Dulles Airport Marriott, 45020 Aviation Drive, Dulles, Virginia.

Following is the workshop preliminary agenda: Day one; (1) Welcome remarks; (2) Expected outcomes from the workshop; (3) Overview of IntelliDrive deployment scenarios; (4) Identification of major issues and parameters for day two discussion; and (5) Questions and answers and instructions for day two. Day two; (1) Break-out sessions on deployment scenarios; (2) Report on break-out sessions; and (3) Outcomes, key takeaways, and summary.

The workshop will be open to the public and registration is free of charge using the ITS America registration process (http://www.itsa.org/itsa/files/pdf/Registrtion%20Form%20Deployment%205-13-10.pdf). Please fax your completed registration form to Brei Whitty at 202-484-3483 no later than June 15, 2010.

Issued in Washington, DC, on the 2nd day of June 2010.
John Augustine,
Managing Director, ITS Joint Program Office.

[FR Doc. 2010-13658 Filed 6-7-10; 8:45 am]

BILLING CODE 4910-HY-P